DEPARTMENT OF AGRICULTURE

Submission for OMB Review; Comment Request

May 20, 2010.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Farm Service Agency

Title: On-line Registration for FSA-sponsored Events and Conferences.

OMB Control Number: 0560-0226.

Summary of Collection: The collection of information is necessary for people to register on-line to make payment and reservation to attend Farm Service Agency (FSA) sponsored events and conferences. The respondents will need to submit the information on-line to pay and to make reservations prior to attending any conferences and events. Respondents that do not have access to the Internet can register by mail or fax.

Need and Use of the Information: FSA will collect the name, organization, organization's address, country, phone number, State, payment options and special accommodations from respondents. FSA will use the information to get payment, confirm and make hotel and other necessary arrangements for the respondents.

Description of Respondents: Individuals or households; Farms: Business or other for-profit; Federal government, Not-for-profit institutions; State, Local or Tribal Government.

Number of Respondents: 900.

Frequency of Responses: Reporting: On occasion.

Total Burden Hours: 225.

Farm Service Agency

Title: Procurement of Commodities for Foreign Donation.

OMB Control Number: 0560-0258.

Summary of Collection: 7 CFR part 1496, Procurement of Processed Agricultural Commodities for Donation under Title II, Public Law 480 is the authorizing authority. The Kansas City Commodity Office (KCCO), within the Farm Service Agency (FSA), U.S. Department of Agriculture, procures agricultural commodities on behalf of the Commodity Credit Corporation (CCC) for donation overseas under various food aid authorities. The information collection is needed in the evaluation of freight bids in connection with the procurement of commodities for donation overseas. This information is submitted by ocean carriers, or their agents, and collected by the KCCO.

Need and Use of the Information: The United States donates agricultural commodities overseas to meet famine or other relief requirements, to combat malnutrition, and sells or donates commodities to promote economic development. To accommodate these donations, the CCC issues invitation to purchase agricultural commodities and services, such as transportation, for use in international programs. Vendors bid for ocean freight by making offers using the Freight Bid Entry System to place bids electronically.

Description of Respondents: Business or other for-profit.

Number of Respondents: 15.

Frequency of Responses: Reporting: Weekly.

Total Burden Hours: 24.

Ruth Brown,
Departmental Information Collection Clearance Officer.

[FR Doc. 2010-12601 Filed 5-25-10; 8:45 am]

BILLING CODE 3410-05-P